DEPARTMENT OF JUSTICE

Antitrust Division

Notice Pursuant to the National Cooperative Research and Production Act of 1933—Advanced Media Workflow Association Inc. (Formerly AAF Association, Inc.)

Notice is hereby given that, on December 18, 2007, pursuant to Section 6(a) of the National Cooperative Research and Production Act of 1993, 15 U.S.C. 4301, et seq. (“the Act”), Advanced Media Workflow Association, Inc. has filed written notifications simultaneously with the Attorney General and the Federal Trade Comission disclosing changes in its membership. The notifications were filed for the purpose of extending the Act's provisions limiting the recovery of antitrust plaintiffs to actual damages under specified circumstances. Specifically, Ad-ID, New York, NY; Blue Order, Kaiserlautern, GERMANY; BT Media & Broadcast, Broomfield, CO; Cinegy GmbH, Munich, GERMANY; NBC Universal, London, UNITED KINGDOM; PBS, Arlington, VA; Craig Beckman (individual member), Lorton, VA; Peter Riordan (individual member), Olney, MD; and Jeff Romine (individual member), Sandy, UT have been added as parties to this venture.

Also, Agile Broadcast, London, UNITED KINGDOM; Merging Technologies, Geneva, SWITZERLAND; Preview Multimedia, Hanover, GERMANY; and XVUE Ltd., Artemidia-Attika, GREECE have withdrawn as parties to this venture.

No other changes have been made in either the membership or planned activity of the group research project. Membership in this group research project remains open, and Advanced Media Workflow Association, Inc. intends to file additional written notifications disclosing all changes in membership.

On March 28, 2000, Advanced Media Workflow Association, Inc. filed its original notification pursuant to Section 6(a) of the Act. The Department of Justice published a notice in the Federal Register pursuant to Section 6(b) of the Act on June 29, 2000 (65 FR 40127).

The last notification was filed with the Department on September 19, 2007. A notice was published in the Federal Register pursuant to Section 6(b) of the Act on November 7, 2007 (72 FR 62864).

Patricia A. Brink,
Deputy Director of Operations, Antitrust Division.

[FR Doc. 08-198 Filed 1-18-08; 8:45 am]

BILLING CODE 4410-11-M